DEPARTMENT OF TRANSPORTATION

National Highway Traffic Safety Administration

[Docket No. NHTSA-2022-0030]

Agency Request for Information; State Electronic Data Collection Grant Program

AGENCY: National Highway Traffic Safety Administration (NHTSA), Department of Transportation (DOT).

ACTION: Request for information.

SUMMARY: This notice requests information from interested parties to assist the agency to develop and implement a new discretionary grant program to increase the number of States, U.S. territories, and Indian tribes electronically transferring their motor vehicle crash data to the National Highway Traffic Safety Administration (NHTSA). The Bipartisan Infrastructure Law (BIL), enacted as the Infrastructure Investment and Jobs Act (IIJA), establishes a new program called the State electronic data collection program. Specifically, section 24108(d)(2) mandates that NHTSA provide grants to States to upgrade and standardize their State crash data systems to enable electronic data collection, intrastate data sharing, and electronic data transfers to NHTSA to increase the accuracy, timeliness, and accessibility of the data including data relating to fatalities involving vulnerable road users. Ultimately, the grants will support an increased capacity of the NHTSA data systems, including the Fatality Analysis Reporting System (FARS), the Crash Reporting Sampling System (CRSS), and the Crash Investigation Sampling System (CISS), and make State crash data accessible to the public. NHTSA seeks comments from all interested parties, including State crash data owners, highway safety offices, law enforcement, and other stakeholders to help inform NHTSA's development of a grant program. This grant program is to modernize State data collection systems and to enable full electronic data transfer. All comments should be submitted via docket number NHTSA-2022-0030.

DATES: Comments must be received on or before May 31, 2022.

ADDRESSES: Written comments may be submitted using any one of the following methods:

(1) Mail: Docket Management Facility, M-30, U.S. Department of Transportation, West Building, Ground Floor, Rm. W12-140, 1200 New Jersey Avenue SE, Washington, DC 20590.

(2) Fax: Written comments may be faxed to (202) 493-2251.

(3) Internet: To submit comments electronically, go to the Federal regulations website at http://www.regulations.gov. Follow the online instructions for submitting comments.

(4) Hand Delivery: West Building Ground Floor, Room W12-140, 1200 New Jersey Avenue SE, between 9 a.m. and 5 p.m. Eastern Time, Monday through Friday, except Federal holidays. To be sure someone is there to help you, please call (202) 366-9322 before coming.

(5) Instructions: All comments submitted in relation to this notice must include the agency name and docket number. Please note that all comments received will be posted without change to http://www.regulations.gov, including any personal information provided. You may also call the Docket at 202-366-9324.

FOR FURTHER INFORMATION CONTACT: Barbara Rhea, State Data Reporting Systems Division Chief, NHTSA (phone: 202-366-2714) or you may send an email to Ms. Rhea at Barbara.rhea@dot.gov.

SUPPLEMENTARY INFORMATION: Section 24108(d) of BIL directs NHTSA to establish a new State electronic data collection program that requires NHTSA to develop and implement a new discretionary grant program. The new grant program is to provide support to States to upgrade and standardize their State crash data systems to enable electronic data collection, intrastate data sharing, and electronic data transfers to NHTSA to increase the accuracy, timeliness, and accessibility of the data including data relating to fatalities involving vulnerable road users. See Public Law 117-58, 24108(d)(3). Eligible States ¹ may use these grants for the costs of equipment to upgrade a statewide crash data repository; adoption of electronic crash reporting by law enforcement agencies and increasing alignment of State crash data with the latest Model Minimum Uniform Crash Criteria.² This notice requests information from interested parties, including State crash data owners, highway safety offices, law enforcement, and other stakeholders to assist NHTSA in the development of a new State electronic data collection program that supports State crash data system improvements, enhances NHTSA's National Center for Statistics and Analysis (NCSA) data infrastructure where these data will be stored, and shares a subset of the resulting data with the public. NHTSA plans to utilize the information provided under this Request for Information to enhance and support the development of the State electronic data collection discretionary grant program.

¹ Under BIL, “State” is defined as each of the 50 States, District of Columbia, the Commonwealth of Puerto Rico, the U.S. Virgin Islands, Guam, American Samoa, the Commonwealth of Northern Mariana Islands and the Secretary of the Interior, acting on behalf of an Indian Tribe. See Public Law 117-58, 24108(d)(1)(A).

² § 24108(d)(3)(C).

Background

The Highway Safety Act of 1966, 23 U.S.C. 401, et seq., as amended, and the National Traffic and Motor Vehicle Safety Act, 49 U.S.C. 30101 et seq. as amended, both authorize NHTSA to collect and analyze motor vehicle crash data to, among other things, improve all aspects of traffic safety systems and conditions, determine the relationship between motor vehicle or motor vehicle equipment performance characteristics, crashes involving motor vehicles; and deaths or personal injuries resulting from those crashes. NHTSA has several data collections that support its traffic safety mission. Several of these data collections are housed within NHTSA's NCSA. As part of NHTSA's ongoing effort to obtain crash data in a more timely, accurate and efficient manner, the agency has successfully implemented a streamlined process for collecting crash data in an electronic format, known as Electronic Data Transfer (EDT).

The existing EDT protocol obtains crash data using police accident reports (PAR), supplemental crash reports, and crash images from participating State crash systems through electronic data transfer processes, services, and functions. Generally, this transfer occurs on a nightly basis once the data are accepted by each State's centralized database following quality control checks. NCSA uses these data to develop a census of the participating State's crashes. This dataset supports real-time decision making; reduces the burden of data collection; and improves data quality. NCSA uses these data to identify existing and emerging highway safety trends, assess the effectiveness of motor vehicle safety standards, and evaluate new and emerging technologies.

However, only 19 States participate in the existing EDT protocol and data obtained through these processes vary in completeness from State-to-State. The BIL State electronic data collection program intends to increase the number of participating States and enhance the robustness of the data through standardization and the modernization of its systems. BIL Section 24108(d) establishes a State electronic data collection program that consists of two components. The first component, and the subject of this request for information, is a new discretionary grant program that provides grants to States for the modernization of State data collection systems to enable full electronic data transfer. Public Law 117-58, 24108(d)(2)(A). The second component is for NHTSA to update its data collection systems to manage and support State electronic data transfers. Public Law 117-58, 24108(d)(2)(B). The purpose of the grants under the State electronic data collection program is to upgrade and standardize State crash data systems to enable electronic data collection, improve intrastate data sharing and electronic data transfers to NHTSA to increase the accuracy, timeliness, and accessibility of the data, including data relating to fatalities involving vulnerable road users. Public Law 117-58, 24108(d)(3)(A). To be eligible for a grant, a State must submit a plan to implement full electronic data transfer to NHTSA and provide any other information as NHTSA may require Public Law 117-58, 24108(d)(3)(B). A State may use grant funds to: (i) Acquire or upgrade equipment for the statewide crash data repository; (ii) adopt electronic crash reporting by law enforcement agencies; and (iii) increase alignment of State crash data with the latest Model Minimum Uniform Crash Criteria. Public Law 117-58, 24108(d)(3)(C).

NHTSA's vision of the BIL State electronic data collection program is to support States that create centralized crash data systems to transfer uniform crash data to NHTSA. The uniformity of the crash data will align to the Model Minimum Uniform Crash Criteria (MMUCC) Guideline. States currently submitting electronic data to NHTSA will be eligible for the State electronic data collection grants to modernize their systems and standardize their data consistent with this new program. NHTSA further envisions that States participating in the State electronic data collection program will have crash data collected electronically in the field by all law enforcement agencies and jurisdictions using a uniform, efficient approach (e.g., question or scenario-based software) that is consistent with the MMUCC Guideline and the statewide database's validation rules. The program will require that crash data is validated at the point records are added to the central State crash repository.

The State electronic data collection program requires that NHTSA make electronic State crash data publicly available. See Public Law 117-58, 24108(d)(4)(B). Consistent with Federal Privacy Law, 23 U.S.C. 403(e), 49 U.S.C. 30183, and U.S. Department of Transportation policy, NHTSA will withhold from public disclosure any information in the State motor vehicle crash data that would lead to the identification of individuals involved in a motor vehicle crash.

Request for Information

The agency is interested in information that would help develop and implement a successful State electronic data collection program. This includes information about States' existing capacity to collect, store, and transfer crash data from the State level to NHTSA; interest in moving to an electronic data collection framework; making State crash data accessible to the public; identifying potential barriers; describing the infrastructural needs to transition to an electronic data transfer protocol; and adoption of electronic crash reporting by law enforcement agencies. The information will support the development and implementation of the State electronic data collection program by taking into consideration the States' experiences and operational capacity. NHTSA has a general understanding of how data collection and information technology protocols work based on NHTSA's assessment of State traffic records systems, current State electronic data transfer, and FARS operations. However, NHTSA hereby seeks further information based on the below questions. This list is not exhaustive, and we encourage commenters to provide any further information that they believe is relevant to inform the agency as it seeks to implement a successful State electronic data collection grant program.

Data Standardization and Modernization of Information Technology

(1) What are the State's current methodologies for collecting and standardizing statewide crash data electronically in a central repository?

(2) NHTSA relies on MMUCC to establish a standardized data set. What steps are required for the State to meet this standardization?

(a) Please provide an estimated timeline to implement MMUCC standardization.

(b) What would it cost the State to move toward this data standardization?

(3) If the State does not have a centralized statewide crash data repository, describe what the State will need to establish the infrastructure; processes and procedures; information technology requirement; and training, to support this data modernization effort?

(4) Explain what the State will need to establish the infrastructure; processes and procedures; information technology requirement; and training to implement an electronic data transfer protocol.

(5) How long would it take for the State to establish a centralized statewide crash data repository and to implement an electronic data transfer protocol?

(6) What are the State's estimated costs associated with establishing a centralized statewide crash repository to support an electronic data transfer protocol?

(7) Explain the challenges associated with establishing a centralized statewide crash repository that supports an electronic data transfer protocol. Elaborate on the State's needs to overcome those challenges.

Law Enforcement Electronic Crash Reporting

(8) What percentage or number of the State's law enforcement agencies collect motor vehicle traffic crash information using an electronic crash report/records management system?

(a) Are all law enforcement agencies in the State collecting motor vehicle traffic crash information via an electronic crash report/records management system using the same application?

(b) For law enforcement agencies collecting motor vehicle traffic crash information using an electronic crash report/records management system, what application is used?

(9) What percentage or number of law enforcement agencies solely use paper crash reports in the crash reporting process?

(a) If so, are these paper reports coded into the centralized statewide crash repository?

(b) Describe any law enforcement's reservations for participating in electronic crash reporting to document motor vehicle traffic crash information?

(c) Specify the needs and costs for law enforcement agencies to adopt electronic-crash reporting to document motor vehicle traffic crash information?

Data Management

(10) Does the State have a conceptual or notional design of how the data would flow into a centralized statewide crash data repository? If so, please elaborate.

(11) If the State currently participates in NHTSA EDT protocol, does the State have written operating procedures for managing the data flow? If so, please submit the data flow or the operational structure.

(12) Does the State, in its crash data, distinguish between crash types between self-reported and police reported crashes?

(13) Does the State include variables to identify State-reportable vs. non-reportable crashes?

Data Accessibility to the Public

(14) Please provide recommendations on the format types for publicly available State crash data.

(15) What State products and services that include State crash data does the State find are most helpful to the public?

(16) Please advise if the State is interested in modernizing and standardizing its State crash system?

This notice is for information purposes only. The agency will review and consider information provided in response to this notice as it implements the State electronic data collection grant program, but will not respond to comments.

Authority: S. 24108, Public Law 117-58, 135 Stat 429.

Chou-Lin Chen,
Associate Administrator, National Center for Statistics and Analysis.

[FR Doc. 2022-09152 Filed 4-28-22; 8:45 am]

BILLING CODE 4910-59-P